FEDERAL RETIREMENT THRIFT INVESTMENT BOARD

Sunshine Act; Meeting

Time and Date: 9 a.m. (PDT), May 17, 2004.

Place: Barclays Global Investors, 34th Floor Main Board Room, 45 Fremont Street, San Francisco, CA 94105.

Status: Parts will be open to the public and parts closed to the public.

Matters To Be Considered

Parts Open to the Public

1. Approval of the minutes of the April 19, 2004, Board member meeting.

2. Thrift Savings Plan activity report by the Executive Director.

Parts Closed to the Public

3. Personnel matters.

4. Procurement issues.

Contact Person for More Information: Thomas J. Trabucco, Director, Office of External Affairs, (202) 942-1640.

Dated: May 6, 2004.
Elizabeth S. Woodruff,
Secretary to the Board, Federal Retirement Thrift Investment Board.

[FR Doc. 04-10659 Filed 5-6-04; 12:43 pm]

BILLING CODE 6760-01-P